DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 USC 327.

SUMMARY: The FHWA, on behalf of Caltrans, is issuing this notice to announce actions taken by Caltrans that are final within the meaning of 23 U.S.C. 139(l) (1). The actions relate to a proposed highway project, Interstate-405 at Avalon Boulevard Interchange Improvement Project (post mile 10.8 to 11.4) in the City of Carson, County of Los Angeles, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before October 5, 2009. If the Federal law that authorizes judicial review of a claim provides a time period of less than 180 days for filing such claim, then that shorter time period still applies.

FOR FURTHER INFORMATION CONTACT: Eduardo Aguilar, Branch Chief/Senior Environmental Planner, Caltrans, District 7, Division of Environmental Planning, 100 South Main Street, Suite 100, Los Angeles, CA 90012-3712, (213) 897-8492, eduardo_aguilar@dot.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans, have taken final agency actions subject to 23 U.S.C. 139(l)(1) by issuing licenses, permits, and approvals for the following highway project in the State of California: Caltrans and the City of Carson propose to improve the configuration of the I-405/Avalon Boulevard interchange (post mile 10.8 to 11.4) in the City of Carson, County of Los Angeles. The proposed improvements would: (1) Realign and improve existing ramps in three of the intersection quadrants; (2) add a new ramp in the fourth (i.e., southeast) quadrant, which would link Lenardo Drive and Avalon Boulevard to the freeway at a widened 213th Street bridge; (3) link the interchange to Lenardo Drive on the adjacent Carson Marketplace site with a bridge over the Torrance Lateral flood control channel, and (4) widen Avalon Boulevard to accommodate change in the ramps configuration. A public meeting was held on regarding the proposed project on Tuesday, August 12, 2008 at the City of Carson Community Center, Room 123, in Carson, California. The actions by the Federal agencies, and the laws under which such actions were taken, are described in the Finding of No Significant Impact (FONSI) for the project, approved on March 18, 2009. The FONSI and other project records are available for review by contacting Caltrans at the addresses provided above. The Caltrans FONSI can be viewed and downloaded from the Caltrans District 7 environmental document Web site at http://www.dot.ca.gov/dist07/resources/envdocs/.

This notice applies to all Federal agency decisions as of the issuance date of this notice and all laws under which such actions were taken, including but not limited to:

—General: National Environmental Policy Act (NEPA) [42 U.S.C. 4321-4351]; Federal Aid-Highway Act [23 U.S.C. 109].

—Land: Landscape and Scenic Enhancement (Wildflowers) [23 U.S.C. 219].

—Air: Clean Air Act 42 U.S.C. 7401-7671(q).

—Wildlife: Endangered Species Act [16 U.S.C. 1531-1544 and section 1536], Fish and Wildlife Coordination Act [16 U.S.C. 661-667(d)], Migratory Bird Treaty Act [16 U.S.C. 703-712].

—Section 4(f) of the U.S. Department of Transportation Act of 1966 [49 U.S.C. 303].

—Historic and Cultural Resources: Section 106 of the National Historic Preservation Act of 1966, as amended [16 U.S.C. 470(aa)-11]; Archeological Resources Protection Act of 1977 [16 U.S.C. 470(aa)-11]; Archeological and Historic Preservation Act [16 U.S.C. 469-469(c)]; Native American Grave Protection and Repatriation Act (NAGPRA) [25 U.S.C. 3001-3013].

—Social and Economic: Civil Rights Act of 1964 [42 U.S.C. 2000(d)-2000(d) (1)]; American Indian Religious Freedom Act [42 U.S.C. 1996]; Farmland Protection Policy Act (FPPA) [7 U.S.C. 4201-4209]; The Uniform Relocation Assistance Act and Real Property Acquisition Policies Act of 1970, as amended.

—Hazardous Materials: Comprehensive Environmental Response, Compensation, and Liability Act (CERCLA), 42 U.S.C. 9601-9675; Superfund Amendments and Reauthorization Act of 1986 (SARA); Resource Conservation and Recovery Act (RCRA), 42 U.S.C. 6901-6992 (k).

—Executive Orders: E.O. 11990 Protection of Wetlands; E.O. 11988 Floodplain Management; E.O. 12898 Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1)

Issued on: April 1, 2009.
Cindy Vigue,
Director, State Programs, Federal Highway Administration, Sacramento, California.

[FR Doc. E9-7935 Filed 4-7-09; 8:45 am]

BILLING CODE 4910-RY-P